DEPARTMENT OF DEFENSE

Office of the Secretary

[Docket ID DOD-2013-OS-0080]

Proposed Collection; Comment Request

AGENCY: Defense Security Service, DoD.

ACTION: Notice.

In compliance with Section 3506(c)(2)(A) of the Paperwork Reduction Act of 1995, the Defense Security Service (DSS) announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 10, 2013.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include agency name, docket number, and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to: Defense Security Service, ISFO, ATTN: Ms. Sharon Bickmore, Russell-Knox Building, 27130 Telegraph Road, Quantico, VA 22134-2253, or call Defense Security Service at (571) 305-6620.

Title, Associated Form, and OMB Number: Voice of Industry Survey, OMB Control Number 0704-0472.

Needs and Uses: Executive Order 12829, “National Industrial Security Program (NISP)” Section 202(a) stipulates that the Secretary of Defense shall serve as the Executive Agent for inspecting and monitoring the contractors, licensees, and grantees who require or will require access to or who store or will store classified information; and for determining the eligibility for access to classified information of contractors, licensees, and grantees and their respective employees. The Executive Agent has the authority to issue, after consultation with affected agencies, standard forms or other standardization that will promote the implementation of the NISP. Department of Defense Directive 5105.42, “Defense Security Service,” dated August 3, 2010, delineates the mission, functions, and responsibilities of DSS. DSS functions and responsibilities include the administration and implementation of the Defense portion of the NISP.

This survey will provide feedback on how DSS is performing with respect to the administration and implementation of the NISP. Participation in the survey is strictly voluntary.

Affected Public: Contractors, licensees, and grantees in the NISP under DSS cognizance.

Annual Burden Hours: 6,119.

Number of Respondents: 12,238.

Responses per Respondent: 1.

Average Burden per Response: 30 minutes.

Frequency: Annually.

SUPPLEMENTARY INFORMATION:

Summary of Information Collection

This collection of information requests the assistance of the facility security officer (FSO) or senior management official to provide feedback as to how DSS is doing with respect to the administration and implementation of the NISP. The survey will be distributed electronically via a web-based, commercial survey tool.

Dated: April 2, 2013.
Aaron Siegel,
Alternate OSD Federal Register Liaison Officer, Department of Defense.

[FR Doc. 2013-08185 Filed 4-8-13; 8:45 am]

BILLING CODE 5001-06-P